DEPARTMENT OF STATE

[Public Notice: 12420]

Determination and Certification of Countries Not Cooperating Fully With Antiterrorism Efforts

Pursuant to section 40A of the Arms Export Control Act (22 U.S.C. 2781), and Executive Order 13637, as amended, I hereby determine and certify to the Congress that the following countries are not cooperating fully with United States antiterrorism efforts: Democratic People's Republic of Korea (DPRK, or North Korea), Iran, Syria, and Venezuela.

This determination and certification shall be transmitted to the Congress and published in the Federal Register.

Dated: May 14, 2024.
Antony J. Blinken,
Secretary of State.

[FR Doc. 2024-13277 Filed 6-14-24; 8:45 am]

BILLING CODE 4710-AD-P